NATIONAL FOUNDATION ON THE ARTS AND THE HUMANITIES

Meetings of Humanities Panel

AGENCY: National Endowment for the Humanities.

ACTION: Notice of meetings.

SUMMARY: Pursuant to section 10(a)(2) of the Federal Advisory Committee Act (5 U.S.C. App.), notice is hereby given that 4 meetings of the Humanities Panel will be held during January, 2013 as follows. The purpose of the meetings is for panel review, discussion, evaluation, and recommendation of applications for financial assistance under the National Foundation on the Arts and Humanities Act of 1965 (20 U.S.C. 951-960, as amended).

DATES: See SUPPLEMENTARY INFORMATION section for meeting dates.

ADDRESSES: The meetings will be held at the Library of Congress, Thomas Jefferson Building, 10 First St. SE., African & Middle Eastern Reading Room (LJ-220), Washington, DC 20540, or as otherwise indicated.

FOR FURTHER INFORMATION CONTACT: Lisette Voyatzis, Committee Management Officer, 1100 Pennsylvania Ave. NW., Room, 529, Washington, DC 20506, or call (202) 606-8322. Hearing-impaired individuals are advised that information on this matter may be obtained by contacting the National Endowment for the Humanities' TDD terminal at (202) 606-8282.

SUPPLEMENTARY INFORMATION:

Meetings

1. Date: January 17, 2013.

Time: 8:30 a.m. to 5:00 p.m.

Location: WissenschaftsForum Berlin, Markgrafenstraße 37, 10117 Berlin, Germany.

This meeting will discuss applications for the NEH/DFG

Bilateral Digital Humanities Program, submitted to the Office of Digital Humanities.

2. Date: January 25, 2013.

Time: 8:30 a.m. to 5:00 p.m.

This meeting will discuss applications for Kluge Fellowships, submitted to the Division of Research Programs.

3. Date: January 29, 2013.

Time: 8:30 a.m. to 5:00 p.m.

This meeting will discuss applications for the Kluge Fellowships, submitted to the Division of Research Programs.

4. Date: January 31, 2013.

Time: 8:30 a.m. to 5:00 p.m.

This meeting will discuss applications for Kluge Fellowships, submitted to the Division of Research Programs.

Because these meetings will include review of personal and/or proprietary financial and commercial information given in confidence to the agency by grant applicants, the meetings will be closed to the public pursuant to sections 552b(c)(4) and 552b(c)(6) of Title 5 U.S.C., as amended. I have made this determination pursuant to the authority granted me by the Chairman's Delegation of Authority to Close Advisory Committee Meetings dated July 19, 1993.

Dated: December 13, 2012.
Lisette Voyatzis,
Committee Management Officer.

[FR Doc. 2012-30521 Filed 12-18-12; 8:45 am]

BILLING CODE 7536-01-P